NUCLEAR REGULATORY COMMISSION

[NRC-2013-0122]

Biweekly Notice; Applications and Amendments to Facility Operating Licenses and Combined Licenses Involving No Significant Hazards Considerations

Background

Pursuant to Section 189a. (2) of the Atomic Energy Act of 1954, as amended (the Act), the U.S. Nuclear Regulatory Commission (NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from May 16, 2013 to May 28, 2013. The last biweekly notice was published on May 28, 2013 (78 FR 31978).

ADDRESSES: You may submit comment by any of the following methods (unless this document describes a different method for submitting comments on a specific subject):

• Federal Rulemaking Web site: Go to http://www.regulations.gov and search for Docket ID NRC-2013-0122. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch (RADB), Office of Administration, Mail Stop: TWB-05-B01M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0122 when contacting the NRC about the availability of information regarding this document. You may access information related to this document, which the NRC possesses and is publicly-available, by the following methods:

• Federal Rulemaking Web site: Go to http://www.regulations.gov and search for Docket ID NRC-2013-0122.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2013-0122 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in Section 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Dominion Nuclear Connecticut, Inc., Docket No. 50-336, Millstone Power Station, Unit 2 (MPS-2), New London County, Connecticut

Date of amendment request: December 17, 2012, as supplemented by letter dated February 25, 2013.

Description of amendment request: The amendments would revise Technical Specification (TS) 1.39, “Storage Pattern,” TS 3.9.18, “Spent Fuel Pool—Storage,” TS 3.9.19, “Spent Fuel Pool—Storage Patterns,” TS 5.3.1, “Fuel Assemblies,” TS 5.6.1, “Criticality,” and TS 5.6.3, “Capacity” for MPS-2, as a result of a new criticality safety analysis for fuel assembly storage in the MPS-2 fuel storage racks.

Basis for proposed no significant hazards consideration determination: As required by 10 CFR 50.91(a), the licensee has provided its analysis of the issue of no significant hazards consideration, which is presented below:

1. Does the proposed change involve a significant increase in the probability or consequences of an accident previously evaluated?

Response: No.

The proposed change does not involve a significant increase in the probability or consequences of an accident previously evaluated.

The proposed change will not affect the physical plant, including the spent fuel pool, spent fuel racks, or fuel handling equipment. While there will be more regions to consider in the spent fuel pool, the process of choosing fuel assembly locations will not change other than the regionalization and burnup curves will be revised. Also, the process of handling fuel assemblies will not change. The MPS-2 program for choosing fuel assembly storage locations, and for fuel handling and assuring that the fuel assemblies are placed into correct locations will remain in place. The success of this program in preventing misloading and dropping of a fuel assembly has been historically demonstrated. Thus, the probability of a fuel assembly misloading or a fuel assembly drop will not significantly increase with the proposed change.

Multiple postulated accidents were reviewed for the proposed change which included several fuel misloading scenarios and a fuel assembly drop.

The criticality analysis concluded that the limiting accident is a misloaded fresh fuel assembly. The analysis also concluded that this accident requires an additional 800 ppm [parts per million] of soluble boron. The total amount of soluble boron required is the 800 ppm to compensate for the reactivity increase from the fuel assembly misload, plus 600 ppm for normal conditions, for a total of 1400 ppm, which is the same conclusion as the current analysis. The current TS require a minimum concentration of 1720 ppm soluble boron at all times that fuel is in the spent fuel pool. The proposed TS will maintain this soluble boron requirement.

A boron dilution accident was reviewed. There are no changes to the plant, plant equipment or operations required by the proposed change. Also, the criticality analysis concluded that the current soluble boron requirement (> 1720 ppm) bounds the consequences associated with the proposed change.

Thus, there is no change to consequences of a boron dilution accident.

In the case of each accident, Keff [k-effective] continues to be less than the licensing limit of 0.95. Thus, it is concluded that the consequences of a previously evaluated accident remains that same.

Since the proposed change reduces the number of fuel assemblies that can be stored in the fuel storage racks, the current seismic/structural and heat load analyses bound the proposed change.

2. Does the proposed change create the possibility of a new or different kind of accident from any accident previously evaluated?

Response: No.

The proposed change does not create the possibility of a new or different kind of accident from any accident previously evaluated.

There is no change to the physical plant, including the equipment and procedures used to handle fuel (or any heavy load) over fuel storage racks, or how the fuel assemblies are stored in the storage racks. Thus, there are no new accidents created over and above the existing postulated accidents of a fuel misload or a fuel assembly drop onto the racks.

Use of cell blocking devices will no longer be required. The cell blocking devices are removable, and can be removed from the spent fuel racks. Fuel storage loading requirements will continue to be maintained by administrative means. Cell blocking devices are not considered to be a sufficient barrier to preclude a fuel misload accident, as they are not permanent. The consequences of such an accident are the same, whether or not a cell blocker is present. The MPS-2 spent fuel pool has been analyzed to accommodate a single misload of the highest enrichment fresh fuel assembly in any region as well as multiple assembly misloads along the boundary between regions. Thus, removing the requirement to use cell blocking devices will not create a new accident over and above the existing postulated accidents of a fuel misload or a fuel assembly drop onto the racks.

Reducing the number of fuel assemblies that can be stored in the fuel storage racks will not create any new or different type of accident.

3. Does the proposed change involve a significant reduction in a margin of safety?

Response: No.

The proposed change does not involve a significant reduction in a margin of safety.

The licensing requirement for the spent fuel pool is that Keff remain less than or equal to 0.95 under all postulated accident conditions (misloaded or dropped fuel assembly, and boron dilution). These accidents were analyzed for the proposed change, and the Keff < 0.95 requirement is met in all cases. In addition, the criticality analysis concluded that, under normal conditions, the fuel pool Keff will remain less than 1.0 with 0 ppm boron in the pool.

Since the proposed change reduces the number of fuel assemblies that can be stored in the fuel storage racks, the current seismic/structural and heat load analyses' margin of safety bound the proposed change.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Sean Meighan.

Dominion Nuclear Connecticut, Inc., Docket No. 50-336, Millstone Power Station, Unit 2 (MPS-2), New London County, Connecticut

Date of amendment request: March 21, 2013.

Description of amendment request: The amendments would revise Technical Specification (TS) 3.1.3.7—Control Rod Drive Mechanisms (CRDMs) to provide consistency with the operability requirements of TS Table 3.3-1, Reactor Protective Instrumentation, when control rod drive mechanisms are energized and capable of withdrawal for MPS-2.

Basis for proposed no significant hazards consideration determination: As required by 10 CFR 50.91(a), the licensee has provided its analysis of the issue of no significant hazards consideration, which is presented below:

Criterion 1

Will operation of the facility in accordance with the proposed change involve a significant increase in the probability or consequences of an accident previously evaluated?

Response: No.

This license amendment request proposes to revise the footnote in TS 3.1.3.7, CRDMs, to provide consistency with the operability requirements of TS Table 3.3-1, Reactor Protective Instrumentation, when CRDMs are energized and capable of withdrawal. The proposed change to the footnote in TS 3.1.3.7 does not modify the physical design or operation of the plant and does not increase the probability or consequences of an accident previously evaluated.

The proposed change has no impact on the operation of the CRDMs. In addition, the design basis accident remains unchanged for the postulated events described in the MPS2 Final Safety Analysis Report (FSAR). Since the initial conditions and assumptions included in the safety analyses are unchanged, the consequences of the postulated events remain unchanged.

Therefore, the proposed change does not involve a significant increase in the probability or consequences of an accident previously evaluated.

Criterion 2

Will operation of the facility in accordance with this proposed change create the possibility of a new or different kind of accident from any accident previously evaluated?

Response: No.

The proposed change does not alter the physical configuration of the plant (no new or different type of equipment will be installed) or introduce any operating configurations not previously evaluated. The proposed change does not alter the way any system, structure, or component (SSC) functions and does not alter the manner in which the plant is operated. The proposed change does not introduce any new failure modes and no new accident precursors are generated.

Therefore, the proposed change does not create the possibility of a new or different kind of accident from any previously evaluated.

Criterion 3

Will operation of the facility in accordance with this proposed change involve a significant reduction in the margin of safety?

Response: No.

The proposed change to the footnote in TS 3.1.3.7, CRDMs, does not involve a change in the operational limits or physical design of the plant. The proposed change does not alter the function or operation of plant equipment or affect the response of that equipment if it is called upon to operate. The proposed change does not decrease the scope of equipment currently required to operate or subject to surveillance testing, nor does the proposed change affect any instrument setpoints or equipment safety functions. The ability of operable SSCs to perform their designated safety function is unaffected by this proposed change. The proposed change does not reduce the margin of safety since it does not affect the assumptions in any accident analysis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Sean Meighan.

Dominion Nuclear Connecticut, Inc., Docket No. 50-336, Millstone Power Station, Unit 2 (MPS-2), New London County, Connecticut

Date of amendment request: April 3, 2013.

Description of amendment request: The amendments would revise Technical Specification 3.9.16 “Shielded Cask,” due to changes to the minimum decay time for fuel assemblies adjacent to the spent fuel pool cask laydown area for MPS-2.

Basis for proposed no significant hazards consideration determination: As required by 10 CFR 50.91(a), the licensee has provided its analysis of the issue of no significant hazards consideration, which is presented below:

1. Does the proposed change involve a significant increase in the probability or consequences of an accident previously evaluated?

Response: No.

The proposed change does not involve a significant increase in the probability or consequences of an accident previously evaluated.

The proposed change will not affect the physical plant, including the spent fuel pool, spent fuel racks, or fuel handling equipment. The change increases the calculated dose consequences for the limiting radiological event, but the increase is not significant since the existing value is a minimal fraction of the acceptance criterion. The revised calculated dose remains a small fraction of the acceptance criterion.

2. Does the proposed change create the possibility of a new or different kind of accident from any accident previously evaluated?

Response: No.

The proposed change does not create the possibility of a new or different kind of accident from any accident previously evaluated.

There is no change to the physical plant, including the equipment and procedures used to handle fuel (or any heavy load) over fuel storage racks, or how the fuel assemblies are stored in the storage racks. Thus, there are no new accidents created over and above the existing postulated spent fuel cask accidents which have been evaluated for the proposed change. Reducing the minimum decay time for fuel assemblies in the vicinity of the spent fuel cask affects the radiological source term (amount and type of radioisotopes present in the fuel), but has no influence on the postulated accident scenario itself.

3. Does the proposed change involve a significant reduction in a margin of safety?

Response: No.

The proposed change does not involve a significant reduction in a margin of safety. The licensing requirement for the minimum decay time is that radiological dose criteria are met. The limiting accident scenario was analyzed for the proposed change, and the dose criteria continue to be met. Specifically, the calculated dose consequences for the proposed change are and remain a small fraction of the acceptance criteria.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Sean Meighan.

NextEra Energy Point Beach, LLC, Docket Nos. 50-266 and 50-301, Point Beach Nuclear Plant, Units 1 and 2, Town of Two Creeks, Manitowac County, Wisconsin

Date of application for amendments: January 15, 2013, as supplemented on March 1, 2013, and April 18, 2013.

Description of amendment request: The proposed amendment would revise Technical Specification (TS) 5.6.5, “Reactor Coolant System (RCS) Pressure and Temperature Limits Report (PTLR),” to allow the use of two new methodologies for determining RCS pressure and temperature limits.

Basis for proposed no significant hazards consideration determination: As required by 10 CFR 50.91(a), the licensee has provided its analysis of the issue of no significant hazards consideration, which is presented below:

1. Does the proposed amendment involve a significant increase in the probability or consequences of an accident previously evaluated?

Response: No.

The proposed change does not adversely affect accident initiators or precursors nor alter the design assumptions, conditions, or the manner in which the plant is operated and maintained. The proposed change does not alter or prevent the ability of structures, systems or components from performing their intended function to mitigate the consequences of an initiating event within the assumed acceptance limits.

There will be no adverse change to normal plant operating parameters, engineered safety feature actuation setpoints, accident mitigation capabilities, or accident analysis assumptions or inputs. The proposed change does not affect the source term, containment isolation, or radiological release assumptions used in evaluating the radiological consequences of an accident previously evaluated. Further, the proposed change does not increase the types or amounts of radioactive effluent that may be released offsite, nor significantly increase individual or cumulative occupational/public radiation exposures.

Therefore, the proposed change does not involve a significant increase in the probability or consequences of an accident previously evaluated.

2. Does the proposed amendment create the possibility of a new or different kind of accident from any accident previously evaluated?

Response: No.

The proposed change does not impose any new or different requirements or eliminate any existing requirements. The proposed change is consistent with the current safety analysis assumptions and current plant operating practice. No new accident scenarios, transient precursors, failure mechanisms, or limiting single failures are introduced as a result of the proposed change. Equipment important to safety will continue to operate as designed. The change does not result in any event previously deemed incredible being made credible. The change does not result in adverse conditions or result in any increase in the challenges to safety systems.

Therefore, the proposed change does not create the possibility of a new or different kind of accident from any accident previously evaluated.

3. Does the proposed amendment involve a significant reduction in a margin of safety?

Response: No.

The proposed change does not alter safety limits, limiting safety system settings, or limiting conditions for operation. The setpoints at which protective actions are initiated are not altered by the proposed change. There are no new or significant changes to the initial conditions contributing to accident severity or consequences. The proposed amendment will not otherwise affect the plant protective boundaries, will not cause a release of fission products to the public, nor will it degrade the performance of any other structures, systems or components important to safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: William Blair, Senior Attorney, NextEra Energy Point Beach, LLC, P.O. Box 14000, Juno Beach, FL 33408-0420.

NRC Acting Branch Chief: Robert D. Carlson.

Nine Mile Point Nuclear Station, LLC, Docket No. 50-220, Nine Mile Point Nuclear Station, Unit 1, Oswego County, New York

Date of amendment request: March 8, 2013, as supplemented by letter dated May 16, 2013.

Description of amendment request: The proposed amendment to the Nine Mile Point Unit 1 (NMP1) Renewed Facility Operating License DPR-63 would modify Technical Specification (TS) Table 3.6.2i, “Diesel Generator Initiation,” by revising the existing 4.16kV Power Board (PB) 102/103 Emergency Bus Undervoltage (Degraded Voltage) Operating Time value and updating the Set Point heading title. In addition, subsequent to the issuance of the proposed amendment by U.S. Nuclear Regulatory Commission, the NMP1 Updated Final Safety Analysis Report (UFSAR) Table XV-9, “Significant Input Parameters to the Loss-Of-Coolant Accident (LOCA) Analysis,” would be revised, based on the issued amendment, to add a note regarding maximum allowable delay time from initiating signal to pump at rated speed settings, to address the scenario of degraded grid voltage coincident with a LOCA using the revised TS Table 3.6.2i operating time. The TS and UFSAR revisions are being made to resolve the Green non-cited violation (NCV) associated with the vital bus degraded voltage protection time delay documented in NRC Inspection Report (IR) 05000220/201101, “Nine Mile Point Nuclear Station—NRC Unresolved Item Follow-up Inspection Report,” dated January 23, 2012 (Reference 1), specifically, NCV05000220/20 11011-01, “Vital Bus Degraded Voltage Time Delay Not Maintained within LOCA Analysis Assumptions.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes modify the TS by changing the maximum time delay for degraded voltage from <60 seconds to ≤24 seconds. The proposed change does not affect the probability or consequences of any accident. Analysis was conducted and determined that the Emergency Core Cooling System (ECCS) will perform its safety function with a time delay of 60 seconds from event initiation to core spray pump at rated speed resulting in insignificant differences in the peak fuel clad temperature (PCT) and maximum local oxidation (MLO) for both GE11 and GNF2 fuel types in use at NMP1. Additionally, the PCT and the MLO remain below the 10 CFR 50.46 acceptance criteria of 2200 °F and 17% respectively.

The proposed changes do not adversely affect accident initiators or precursors, and do not alter the design assumptions, conditions, or configuration of the plant or the manner in which the plant is operated and maintained. The ability of structures, systems, and components to perform their intended safety functions is not altered or prevented by the proposed changes, and the assumptions used in determining the radiological consequences of previously evaluated accidents are not affected.

Therefore, the proposed changes do not involve a significant increase in the probability or consequences of an accident previously evaluated.

2. Does the proposed amendment create the possibility of a new or different kind of accident from any accident previously evaluated?

Response: No.

The change adds an additional time delay due to voltage degradation prior to diesel start. The LOCA analysis model is unchanged. The maximum time delay from event initiation to core spray pump at rated speed input was changed from 35 to 60 seconds to model the Loss-Of-Coolant Accident (LOCA) event coincident with a sustained degraded voltage in order to determine that the 10 CFR 50.46 acceptance criteria is met for this scenario. These changes do not involve any physical alteration of the plant (i.e., no new or different type of equipment will be installed), and installed equipment is not being operated in a new or different manner. Thus, no new failure modes are introduced.

Therefore, the proposed changes do not create the possibility of a new or different kind of accident from any accident previously evaluated.

3. Does the proposed amendment involve a significant reduction in a margin of safety?

Response: No.

The proposed changes do not affect the function of the reactor coolant pressure boundary or its response during plant transients. The proposed changes do not alter the manner in which safety limits, limiting safety system settings, or limiting conditions for operation are determined; and the operability requirements for equipment assumed to operate for accident mitigation are not affected. The proposed change modifies the TS by changing the maximum time delay for degraded voltage from <60 seconds to ≤24 seconds. By calculating the PCT and MLO using NRC-approved methodology for the LOCA coincident with a sustained degraded voltage, adequate margins of safety relating to fuel cladding integrity are maintained.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Carey W. Fleming, Senior Counsel, Constellation Energy Nuclear Group, LLC, 100 Constellation Way, Suite 200C, Baltimore, MD 21202.

NRC Branch Chief: Sean Meighan.

Northern States Power Company—Minnesota, Docket No. 50-263, Monticello Nuclear Generating Plant (MNGP), Wright County, Minnesota

Date of amendment request: October 30, 2012.

Description of amendment request: The amendment proposes to revise the MNGP Technical Specification (TS) 4.3.1, “Fuel Storage Criticality,” and TS 4.3.3, “Fuel Storage Capacity,” to support fuel storage system changes and a revised criticality safety analysis that addresses both legacy fuel types and new fuel designs.

Basis for proposed no significant hazards consideration determination: As required by 10 CFR 50.91(a), the licensee has provided its analysis of the issue of no significant hazards consideration, which is presented below, with NRC edits in brackets:

1. Does the proposed amendment involve a significant increase in the probability or consequences of an accident previously evaluated?

Response: No.

The proposed amendment does not change the fuel handling processes, fuel storage racks, decay heat generation rate, or the SFP [spent fuel pool] cooling and cleanup system. The proposed amendment was evaluated for impact on the following previously-evaluated events and accidents: (1) Fuel handling accident (FHA), (2) fuel assembly misleading, (3) seismically-induced movement of spent fuel storage racks, and (4) loss of spent fuel pool cooling.

Whereas fuel handling procedures will not be changed materially for the new fuel type or the revised criticality methods, the probability of a FHA is not increased because the implementation of the proposed amendment will employ the same equipment and procedures to handle fuel assemblies that are currently used. Therefore, the proposed amendment does not increase the probability or occurrence of a FHA. In that the proposed amendment does not increase the mechanistic damage to a fuel assembly or the radiological source term of any fuel assembly, the amendment would not increase the radiological consequences of a FHA. With regard to the potential criticality consequences of a dropped assembly coming to rest adjacent to a storage rack or on top of a storage rack, the results are bounded by the current analysis involving a potential missing neutron poison plate in the storage rack. The fuel configuration caused by a dropped assembly resting on top of loaded storage racks is inherently bounded by the assembly misloaded in the storage rack because the misloaded assembly is in closer proximity to other assemblies along its entire fuel length.

Operation in accordance with the proposed amendment will not change the probability of a fuel assembly misloading because fuel movement will continue to be controlled by approved fuel selection and fuel handling procedures. The consequences of a fuel misloading event (fuel assembly loaded into an unapproved location) are not changed because the reactivity analysis demonstrates that the same subcriticality criteria and requirements continue to be met for the worst-case fuel misloading event.

Operation in accordance with the proposed amendment will not change the probability of occurrence of a seismic event, which is considered an Act of God. Also, the consequences of a seismic event are not changed because the proposed amendment involves no significant change to the types of material stored in SFP storage racks or their mass. In this manner, the forcing functions for seismic excitation and the resulting forces are not changed. Also, particular to criticality, the supporting criticality analysis takes no credit for gaps between high-density rack modules so any seismically-induced movement between high-density racks that puts them in closer proximity would not result in an unanalyzed condition with consequences worse than those analyzed. Also, the small displacement of the high-density rack closest to the fixed location of the low-density rack will not put those racks in a closer proximity than that analyzed. In summary, the proposed amendment will not increase the probability or consequence of a seismic event.

Operation in accordance with the proposed amendment will not change the probability of a loss of spent fuel pool cooling because the changes in fuel criticality limits and introduction of the ATRIUM 10XM fuel design have no bearing on the systems, structures, and components involved in initiating such an event. The proposed amendment does not change the heat load imposed by spent fuel assemblies nor does it change the flow paths in the spent fuel pool. Therefore, the accident consequences are not increased for the proposed amendment.

Therefore, the proposed changes do not involve a significant increase in the probability or consequences of an accident previously evaluated.

2. Do the proposed changes create the possibility of a new or different kind of accident from any accident previously evaluated?

Response: No.

The proposed amendment involves no new SFP loading configurations for current and legacy fuel designs of the nuclear plant. The proposed amendment does not change or modify the fuel handling processes, fuel storage racks, decay heat generation rate, or the spent fuel pool cooling and cleanup system. Further, the new fuel type does not introduce any incompatible materials to the spent fuel pool environment.

As such, the proposed changes introduce no new material interactions, man-machine interfaces, or processes that could create the potential for an accident of a new or different type.

Operation with the proposed amendment will not create a new or different kind of accident because fuel movement will continue to be controlled by approved fuel handling procedures. There are no changes in the criteria or design requirements pertaining to fuel storage safety, including subcriticality requirements, and analyses demonstrate that the proposed storage arrays meet these requirements and criteria with adequate margins. Thus, the proposed storage arrays cannot cause a new or different kind of accident.

[Therefore, the proposed changes do not create the possibility of a new or different kind of accident from any previously evaluated.]

3. Do the proposed changes involve a significant reduction in a margin of safety?

Response: No.

The proposed amendment was evaluated for its effect on current margins of safety for criticality. Although the amendment involves changing the subcriticality acceptance limit for the low-density storage rack from a value of 0.90 to 0.95, the margin of safety for subcriticality is not significantly reduced in that the limit is consistent with that of the other storage racks and the regulation described by 10 CFR 50.68 (b)(4). The new criticality analysis confirms that operation in accordance with the proposed amendment continues to meet the required subcriticality margin.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: Robert D. Carlson.

Northern States Power Company—Minnesota, Docket No. 50-263, Monticello Nuclear Generating Plant (MNGP), Wright County, Minnesota

Date of amendment request: March 11, 2013.

Description of amendment request: The amendment proposes to reduce the reactor steam dome pressure specified in MNGP Technical Specifications (TS) 2.0, “SAFETY LIMITS.” Specifically, the reactor steam dome pressure value specified in TS 2.1.1.1 and TS 2.1.1.2 will be reduced from the current 785 psig to 686 psig. The requested change supports resolution of a 10 CFR Part 21 condition concerning a potential to momentarily violate a reactor core safety limit during a pressure regulator failure maximum demand (open) transient.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to the reactor steam dome pressure in Reactor Core Safety Limits 2.1.1.1 and 2.1.1.2 does not alter the use of the analytical methods used to determine the safety limits that have been previously reviewed and approved by the NRC. The proposed change is in accordance with an NRC-approved critical power correlation methodology and, as such, maintains required safety margins. The proposed change does not adversely affect accident initiators or precursors nor does it alter the design assumptions, conditions, or configuration of the facility or the manner in which the plant is operated and maintained.

The proposed change does not alter or prevent the ability of structures, systems, and components (SSCs) from performing their intended function to mitigate the consequences of an initiating event within the assumed acceptance limits. The proposed change does not require any physical change to any plant SSCs nor does it require any change in systems or plant operations. The proposed change is consistent with the safety analysis assumptions and resultant consequences.

Therefore, the proposed changes do not involve a significant increase in the probability or consequences of an accident previously evaluated.

2. Do the proposed changes create the possibility of a new or different kind of accident from any accident previously evaluated?

Response: No.

There are no hardware changes nor are there any changes in the method by which any plant systems perform a safety function. No new accident scenarios, failure mechanisms, or limiting single failures are introduced as a result of the proposed change.

The proposed change does not introduce any new accident precursors, nor does it involve any physical plant alterations or changes in the methods governing normal plant operation. Also, the change does not impose any new or different requirements or eliminate any existing requirements. The change does not alter assumptions made in the safety analysis.

Therefore, the proposed change does not create the possibility of a new or different kind of accident from any previously evaluated.

3. Do the proposed changes involve a significant reduction in a margin of safety?

Response: No.

Margin of safety is related to the confidence in the ability of the fission product barriers (fuel cladding, reactor coolant system, and primary containment) to perform their design functions during and following postulated accidents. Evaluation of the 10 CFR Part 21 condition by General Electric determined that there was no decrease in the safety margin, the Minimum Critical Power Ratio improves during the transient, and therefore is not a threat to fuel cladding integrity.

The proposed change to Reactor Core Safety Limits 2.1.1.1 and 2.1.1.2 is consistent with, and within the capabilities of the applicable NRC-approved critical power correlation, and thus continues to ensure that valid critical power calculations are performed. No setpoints at which protective actions are initiated are altered by the proposed change. The proposed change does not alter the manner in which the safety limits are determined. This change is consistent with plant design and does not change the TS operability requirements; thus, previously evaluated accidents are not affected by this proposed change.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: Robert D. Carlson.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Carolina Power and Light Company, et al., Docket No. 50-261, H.B. Robinson Steam Electric Plant, Unit 2, Darlington County, South Carolina

Date of application for amendment: June 8, 2012, as supplemented by letters dated October 12, 2012, October 22, 2012, and April 24, 2013.

Brief Description of amendment: The amendment revised the Technical Specifications (TSs) to add a 1-hour soak time to Limiting Conditions for Operation 3.1.4 and 3.1.7 allowing the control rod drive mechanisms additional time following substantial rod motion to reach thermal equilibrium.

Date of issuance: May 16, 2013.

Effective date: As of date of issuance and shall be implemented within 120 days.

Amendment No.: 233.

Renewed Facility Operating License No. DPR-23: Amendment changed the license and TSs.

Date of initial notice in Federal Register: August 7, 2012 (77 FR 47126). The supplements dated October 12, 2012, October 22, 2012, and April 24, 2013, provided additional information that clarified the application, did not expand the scope of the application as originally noticed, and did not change the staff's original proposed no significant hazards consideration determination as published in the Federal Register.

The Commission's related evaluation of the amendment is contained in a Safety Evaluation dated May 16, 2013.

No significant hazards consideration comments received: No.

Duke Energy Carolinas, LLC, Docket Nos. 50-369 and 50-370, McGuire Nuclear Station, Units 1 and 2, Mecklenburg County, North Carolina

Date of application for amendments: March 5, 2012, as supplemented by letters dated May 29, 2012, June 21, 2012, July 6, 2012, July 16, 2012, August 15, 2012, September 27, 2012, November 1, 2012, January 2, 2013, and March 7, 2013.

Brief description of amendments: The amendments revised the technical specifications to implement a measurement uncertainty recapture power uprate at the McGuire Nuclear Station, Units 1 and 2 (McGuire 1 and 2).

Date of issuance: May 16, 2013.

Effective date: As of the date of issuance and shall be implemented for McGuire 1 within 30 days of the completion of the facility's end-of-cycle 23 refueling outage, currently scheduled for the fall of 2014, and shall be implemented for McGuire 2 within 30 days of the completion of the facility's end-of-cycle 22 refueling outage, currently scheduled for the spring of 2014.

Amendment Nos.: 269 and 249.

Renewed Facility Operating License Nos. NPF-9 and NPF-17: Amendments revised the licenses and the technical specifications.

Date of initial notice in Federal Register: May 15, 2012 (77 FR 28630). The supplements dated May 29, 2012, June 21, 2012, July 6, 2012, July 16, 2012, August 15, 2012, September 27, 2012, November 1, 2012, January 2, 2013, and March 7, 2013, provided additional information that clarified the application, did not expand the scope of the application as originally noticed, and did not change the staff's original proposed no significant hazards consideration determination.

The Commission's related evaluation of the amendments is contained in a Safety Evaluation dated May 16, 2013.

No significant hazards consideration comments received: No.

Exelon Generation Company, LLC, and PSEG Nuclear LLC, Docket Nos. 50-277 and 50-278, Peach Bottom Atomic Power Station, Units 2 and 3, York and Lancaster Counties, Pennsylvania

Date of application for amendments: November 3, 2011, as supplemented by letters dated December 22, 2011, April 4, 2012, May 17, 2012, June 21, 2012, August 15, 2012, November 13, 2012, and April 18, 2013.

Brief description of amendments: The amendments modify the Technical Specifications (TSs) and Facility Operating Licenses (FOLs) to allow the use of neutron absorbing inserts in the spent fuel pool storage racks for the purpose of criticality control in the spent fuel pools.

Date of issuance: May 21, 2013.

Effective date: As of the date of issuance, to be implemented within 60 days.

Amendments Nos.: 287 and 290.

Renewed Facility Operating License Nos. DPR-44 and DPR-56: The amendments revised the FOLs and TSs.

Date of initial notice in Federal Register: June 5, 2012 (77 FR 33247). The letters dated December 22, 2011, April 4, 2012, May 17, 2012, June 21, 2012, August 15, 2012, November 13, 2012, and April 18, 2013, provided clarifying information that did not change the initial proposed no significant hazards consideration determination or expand the application beyond the scope of the original Federal Register notice.

The Commission's related evaluation of the amendments is contained in a Safety Evaluation dated May 21, 2013.

No significant hazards consideration comments received: No.

FirstEnergy Nuclear Operating Company (FENOC), et al., Docket No. 50-440, Perry Nuclear Power Plant, Unit 1 (PNPP), Lake County, Ohio

Date of amendment request: September 5, 2012.

Description of amendment request: The proposed amendment would modify PNPP's Technical Specifications (TS) Table 3.3.5.1-1, “Emergency Core Cooling System (ECCS) Instrumentation,” footnote (a) to require ECCS instrumentation to be operable only when the associated ECCS subsystems are required to be operable. This proposed change is consistent with Nuclear Regulatory Commission (NRC)-approved TS Task Force (TSTF) change traveler TSTF-275-A, Revision 0.

Additionally, the proposed amendment would add exceptions to the diesel generator (DG) surveillance requirements (SRs) for TS 3.8.2, “AC Sources—Shutdown,” to eliminate the requirement that the DG be capable of responding to ECCS initiation signals while the ECCS subsystems are not required to be operable. This proposed change is consistent with NRC-approved TSTF-300-A, Revision 0.

Date of issuance: May 16, 2013.

Effective date: As of the date of issuance and shall be implemented within 60 days.

Amendment No.: 164.

Facility Operating License No. NPF-58: This amendment revised the Technical Specifications and License.

Date of initial notice in Federal Register: January 8, 2013 (78 FR 1270). The Commission's related evaluation of the amendment is contained in a Safety Evaluation dated May 6, 2013.

No significant hazards consideration comments received: No.

Dated at Rockville, Maryland, this 3rd day of June 2013.
For the Nuclear Regulatory Commission.
Michele G. Evans,
Director, Division of Operating Reactor Licensing, Office of Nuclear Reactor Regulation.

[FR Doc. 2013-13689 Filed 6-10-13; 8:45 am]

BILLING CODE 7590-01-P